DEPARTMENT OF TRANSPORTATION

Federal Motor Carrier Safety Administration

[Docket No. FMCSA-2016-0118]

Commercial Driver's License: Missouri Department of Revenue (DOR); Application for Exemption

AGENCY: Federal Motor Carrier Safety Administration (FMCSA), DOT.

ACTION: Notice of application for exemption; request for comments.

SUMMARY: FMCSA announces that it has received an application from the Missouri DOR for a limited exemption from the Agency's commercial driver's license (CDL) regulations. These regulations allow a State to waive the CDL skills test for applicants regularly employed or previously employed within the last 90 days in a military position requiring operation of a commercial motor vehicle (CMV). The Missouri DOR proposes that it be allowed to extend the 90-day timeline to one year following the driver's separation from military service. The Missouri DOR believes the 90-day timeframe is too short to take advantage of the waiver for many of the qualified discharged veterans reentering and settling into civilian life. FMCSA requests public comment on this application for exemption. In addition, because the issues concerning the Missouri request could be applicable in each of the States, FMCSA requests public comment whether the exemption, if granted, should cover all State Driver's Licensing Agencies (SDLAs).

DATES: Comments must be received on or before May 11, 2016.

ADDRESSES: You may submit comments identified by Federal Docket Management System Number FMCSA-2016-0118 by any of the following methods:

• Federal eRulemaking Portal: www.regulations.gov. See the Public Participation and Request for Comments section below for further information.

• Mail: Docket Management Facility, U.S. Department of Transportation, 1200 New Jersey Avenue SE., West Building, Ground Floor, Room W12-140, Washington, DC 20590-0001.

• Hand Delivery or Courier: West Building, Ground Floor, Room W12-140, 1200 New Jersey Avenue SE., between 9 a.m. and 5 p.m. E.T., Monday through Friday, except Federal holidays.

• Fax: 1-202-493-2251.

Each submission must include the Agency name and the docket number for this notice. Note that DOT posts all comments received without change to www.regulations.gov, including any personal information included in a comment. Please see the Privacy Act heading below.

Docket: For access to the docket to read background documents or comments, go to www.regulations.gov at any time or visit Room W12-140 on the ground level of the West Building, 1200 New Jersey Avenue SE., Washington, DC, between 9 a.m. and 5 p.m., ET, Monday through Friday, except Federal holidays. The on-line FDMS is available 24 hours each day, 365 days each year

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: For information concerning this notice, contact Mr. Richard Clemente, FMCSA Driver and Carrier Operations Division; Office of Carrier, Driver and Vehicle Safety Standards; Telephone: 202-366-2718. Email: MCPSD@dot.gov. If you have questions on viewing or submitting material to the docket, contact Docket Services, telephone (202) 366-9826.

SUPPLEMENTARY INFORMATION:

I. Public Participation and Request for Comments

FMCSA encourages you to participate by submitting comments and related materials.

Submitting Comments

If you submit a comment, please include the docket number for this notice (FMCSA-2016-0118), indicate the specific section of this document to which the comment applies, and provide a reason for suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number, “FMCSA-2016-0118” in the “Keyword” box, and click “Search.” When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope. FMCSA will consider all comments and material received during the comment period and may grant or not grant this application based on your comments.

II. Legal Basis

FMCSA has authority under 49 U.S.C. 31136(e) and 31315 to grant exemptions from certain Federal Motor Carrier Safety Regulations (FMCSRs). FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

III. Request for Exemption

The Missouri DOR requests an exemption from 49 CFR 383.77(b)(1), which allows States to waive the skills test described in § 383.113 for applicants regularly employed or previously employed within the last 90 days in a military position requiring operation of a CMV. The Missouri DOR proposes that it be allowed to extend the 90-day timeline to one year following the driver's separation from military service.

The Missouri DOR contends that the 90-day timeframe is too short for many of the qualified veterans to utilize while reentering civilian life. They state that the Department has utilized the military waiver program for years and one of the most common reasons the applicant is not eligible is because the application is beyond the 90-day timeframe. Furthermore, the industry need for new drivers is continually growing each year and providing additional flexibility in § 383.77(b)(1) will help offset that need by transitioning fully-trained military veterans into civilian employment. They further state that it is their goal to assure highway safety by licensing qualified veterans seeking employment following discharge. A more accessible waiver period would assist in meeting this goal and provide an opportunity to veterans.

FMCSA has previously determined that extending the 90-day skills test waiver period to one year following the driver's separation from military service would maintain a level of safety equivalent to, or greater than, the level achieved without the exemption (49 CFR 381.305(a)). An exemption extending the 90-day skills test waiver period to one year was granted to the Commonwealth of Virginia, Department of Motor Vehicles (Virginia DMV) on July 8, 2014 (79 FR 38645). This exemption is in effect through July 8, 2016, and is applicable to all State driver licensing agencies (SDLAs).

On March 16, 2016, FMCSA published a notice of proposed rulemaking (NPRM) and request for comments entitled “Commercial Driver's License Requirements of the Moving Ahead for Progress in the 21st Century Act and the Military Commercial Driver's License Act of 2012” (81 FR 14052). This proposed rulemaking would extend the time period for applying for a skills test waiver from 90 days to one year after leaving a military position requiring the operation of a CMV for all States. The comment period on this notice closes on May 16, 2016. This proposed rulemaking will not be finalized by July 8, 2016, which is the Virginia DMV exemption expiration date. Therefore, to avoid a potential gap, today's publication of the Missouri DOR exemption request and request for comments to extend the 90-day timeframe to one year, is necessary.

In addition, because the issues concerning the Missouri DOR request could be applicable in each of the States, FMCSA requests public comment on whether the exemption, if granted, should cover all State Driver's Licensing Agencies (SDLAs).

A copy of the Missouri DOR's application for exemption is available for review in the docket for this notice.

IV. Method To Ensure an Equivalent or Greater Level of Safety

The FMCSA does not believe that the veterans' driving skills would decrease during the additional 9 months in which this exemption allows them to apply for a waiver of the CDL skills test. This exemption only extends the period during which application for the skills test waiver may be made, and does not revise any other provisions of the regulations. FMCSA determined that the exemption would maintain a level of safety equivalent to, or greater than, the level achieved without the exemption (49 CFR 381.305(a)).

Issued on: April 4, 2016.
Larry W. Minor,
Associate Administrator for Policy.

[FR Doc. 2016-08208 Filed 4-8-16; 8:45 am]

BILLING CODE 4910-EX-P